INTERNATIONAL TRADE COMMISSION

[Investigation No. 731-TA-988 (Preliminary)]

Pneumatic Directional Control Valves From Japan

Determination

On the basis of the record ¹ developed in the subject investigation, the United States International Trade Commission determines,² pursuant to section 733(a) of the Tariff Act of 1930 (19 U.S.C. 1673b(a)) (the Act), that there is no reasonable indication that an industry in the United States is materially injured or threatened with material injury, or that the establishment of an industry in the United States is materially retarded, by reason of imports from Japan of pneumatic directional control valves, provided for in subheading 8481.20.00 of the harmonized Tariff Schedule of the United States, that are alleged to be sold in the United States at less than fair value (LTFV).

¹ The record is defined in sec. 207.2(f) of the Commission's Rules of Practice and Procedure (19 CFR 207.2(f)).

² Commissioner Lynn M. Bragg dissenting.

Background

On January 14, 2002, a petition was filed with the Commission and the U.S. Department of Commerce by the Pneumatics Group, a trade association of pneumatic directional control valve producers and wholesalers consisting of Festo Corp., of Hauppage, NY; IMI Norgren, Inc., of Littleton, CO; Numatics, Inc., of Highland, MI; and Parker Hannifin Corp. of Cleveland, OH, alleging that an industry in the United States is materially injured or threatened with material injury by reason of LTFV imports of pneumatic directional control valves from Japan. Accordingly, effective January 14, 2002, the Commission instituted antidumping duty investigation No. 731-TA-988 (Preliminary).

Notice of the institution of the Commission's investigation and of a public conference to be held in connection therewith was given by posting copies of the notice in the Office of the Secretary, U.S. International Trade Commission, Washington, DC, and by publishing the notice in the Federal Register of January 23, 2002 (67 FR 3230). The conference was held in Washington, DC, on February 4, 2002, and all persons who requested the opportunity were permitted to appear in person or by counsel.

The Commission transmitted its determination in this investigation to the Secretary of Commerce on February 28, 2002. The views of the Commission are contained in USITC Publication 3491 (March 2002), entitled Pneumatic Directional Control Valves from Japan: Investigation No. 731-TA-988 (Preliminary).

By order of the Commission.
Issued: February 28, 2002.
Marilyn R. Abbott,
Acting Secretary.

[FR Doc. 02-5333 Filed 3-5-02; 8:45 am]

BILLING CODE 7020-02-M